CIVIL RIGHTS COMMISSION

Sunshine Act Meetings

AGENCY: United States Commission on Civil Rights.

ACTION: Notice of Commission Telephonic Business Meeting.

DATES: Friday, April 20, 2018, at 11:00 a.m. EST.

ADDRESSES: Meeting to take place by telephone.

FOR FURTHER INFORMATION CONTACT: Brian Walch, (202) 376-8371, publicaffairs@usccr.gov.

SUPPLEMENTARY INFORMATION: This business meeting is open to the public by telephone only. Participant access instructions: Listen-only, toll free: 1-877-723-9519; Conference ID: 762-4641. Please dial in 5-10 minutes prior to the start time.

Meeting Agenda

I. Approval of Agenda

II. Program Planning

• Discussion and Vote Chair for Vermont Advisory Committee

• Discussion and Vote on Chair for North Carolina Advisory Committee

III. Staff Director's Report

IV. Adjourn Meeting.

Dated: April 10, 2018.
Brian Walch,
Director, Communications and Public Engagement.

[FR Doc. 2018-07777 Filed 4-10-18; 4:15 pm]

BILLING CODE 6335-01-P